ENVIRONMENTAL PROTECTION AGENCY

40 CFR Part 52

[EPA-R09-OAR-2011-0733; FRL-9462-2]

Revisions to the California State Implementation Plan, San Joaquin Valley Unified Air Pollution Control District

AGENCY: Environmental Protection Agency (EPA).

ACTION: Proposed rule.

SUMMARY: EPA is proposing to approve revisions to the San Joaquin Valley Unified Air Pollution Control District (SJVUAPCD) portion of the California State Implementation Plan (SIP). These revisions concern volatile organic compound (VOC) emissions from polyester resin operations. We are approving a local rule that regulates these emission sources under the Clean Air Act as amended in 1990 (CAA or the Act). We are taking comments on this proposal and plan to follow with a final action. In a separate interim final action published in the Rules section in today's Federal Register, we are deferring related CAA sanctions that would otherwise apply to the SJVUAPCD.

DATES: Any comments must arrive by October 12, 2011.

ADDRESSES: Submit comments, identified by docket number EPA-R09-OAR-2011-0733, by one of the following methods:

1. Federal eRulemaking Portal: http://www.regulations.gov. Follow the on-line instructions.

2. E-mail: steckel.andrew@epa.gov.

3. Mail or deliver: Andrew Steckel (Air-4), U.S. Environmental Protection Agency Region IX, 75 Hawthorne Street, San Francisco, CA 94105-3901.

Instructions: All comments will be included in the public docket without change and may be made available online at http://www.regulations.gov, including any personal information provided, unless the comment includes Confidential Business Information (CBI) or other information whose disclosure is restricted by statute. Information that you consider CBI or otherwise protected should be clearly identified as such and should not be submitted through http://www.regulations.gov or e-mail. http://www.regulations.gov is an “anonymous access” system, and EPA will not know your identity or contact information unless you provide it in the body of your comment. If you send e-mail directly to EPA, your e-mail address will be automatically captured and included as part of the public comment. If EPA cannot read your comment due to technical difficulties and cannot contact you for clarification, EPA may not be able to consider your comment.

Docket: Generally, documents in the docket for this action are available electronically at http://www.regulations.gov and in hard copy at EPA Region IX, 75 Hawthorne Street, San Francisco, California. While all documents in the docket are listed at http://www.regulations.gov, some information may be publicly available only at the hard copy location (e.g., copyrighted material, large maps), and some may not be publicly available in either location (e.g., CBI). To inspect the hard copy materials, please schedule an appointment during normal business hours with the contact listed in the FOR FURTHER INFORMATION CONTACT section.

FOR FURTHER INFORMATION CONTACT: David Grounds, EPA Region IX, (415) 972-3019, grounds.david@epa.gov.

SUPPLEMENTARY INFORMATION: Throughout this document, “we,” “us” and “our” refer to EPA.

Table of Contents

I. The State's Submittal

A. What rule did the State submit?

B. Are there other versions of this rule?

C. What is the purpose of the submitted rule revisions?

II. EPA's Evaluation and Action

A. How is EPA evaluating the rule?

B. Does the rule meet the evaluation criteria?

C. EPA Recommendations to Further Improve the Rule

D. Public Comment and Final Action

III. Statutory and Executive Order Reviews

I. The State's Submittal

A. What rule did the State submit?

By letter dated July 22, 2011, CARB submitted to EPA on behalf of SJVUAPCD a proposed rule, with request for parallel processing.¹ See June 22, 2011 letter to Jared Blumenfeld, Regional Administrator, EPA Region 9, from James N. Goldstene, Executive Officer, CARB.

¹ Under EPA's “parallel processing” procedure, EPA proposes rulemaking action concurrently with the State's proposed rulemaking. If the State's proposed rule is changed, EPA will evaluate that subsequent change and may publish another notice of proposed rulemaking. If no significant change is made, EPA will publish a final rulemaking on the rule after responding to any submitted comments. Final rulemaking action by EPA will occur only after the rule has been fully adopted by California and submitted formally to EPA for incorporation into the SIP. See 40 CFR part 51, appendix V.

Table 1 lists the rule addressed by this proposal with the rule title.

Table 1—Rule Submitted by California for Parallel Processing
Local agency | Rule No. | Rule title
SJVUAPCD | 4684 | Polyester Resin Operations.

CARB's July 22, 2011 parallel processing request includes the District Notice of Public Hearing to be held on August 18, 2011 and the amended District Rule 4684. SJVUAPCD amended Rule 4684 on June 16, 2011. Due to procedural issues with the local public notification process, SJVUAPCD readopted these amendments on August 18, 2011 and expects CARB to submit them to EPA soon.

EPA is granting CARB's request that EPA “parallel process” our review and propose action on the rule. All of the relevant documents are available for review in the docket for today's proposed rulemaking.

B. Are there other versions of this rule?

We approved an earlier version of Rule 4684 (adopted locally December 20, 2001) into the SIP on June 26, 2002 (67 FR 42999). We also finalized a simultaneous limited approval and limited disapproval of a subsequent version of Rule 4684 (adopted locally on September 20, 2007) on January 26, 2010 (75 FR 3996), thereby incorporating that version of the rule into the SIP. The SJVUAPCD adopted revisions to the SIP-approved version on September 17, 2009 and CARB submitted them to us on May 17, 2010, but we did not act on those revisions. On July 22, 2011, CARB submitted a request to EPA to approve further draft revisions to Rule 4684 using EPA's authority to parallel process SIP revisions. SJVUAPCD adopted these amendments on August 18, 2011 and expects CARB to submit them to EPA soon. While we are only acting on the “parallel processing” version, we have reviewed materials provided with previous submittals.

C. What is the purpose of the submitted rule revisions?

VOCs help produce ground-level ozone and smog, which harm human health and the environment. Section 110(a) of the CAA requires States to submit regulations that control VOC emissions. Rule 4684 limits VOC emissions from polyester resin operations, associated organic solvent cleaning and storage, and disposal of solvents and waste solvent materials. EPA's technical support document (TSD) has more information about this rule.

II. EPA's Evaluation and Action

A. How is EPA evaluating the rule?

Several statutory provisions apply to EPA's evaluation of the rules. CAA section 110(a)(2)(A) requires that regulations submitted to EPA for approval into a SIP must be clear and legally enforceable. CAA section 110(l) prohibits EPA from approving any SIP revision that would interfere with any applicable requirement concerning attainment and reasonable further progress (RFP) or any other applicable requirement of the CAA, and CAA section 193 prohibits the modification of any SIP-approved control requirement in effect before November 15, 1990, in a nonattainment area. CAA section 172(c)(1) requires nonattainment areas to implement all reasonably available control measures (RACM), including such reductions in emissions from existing sources in the area as may be obtained through the adoption, at a minimum, of reasonably available control technology (RACT), as expeditiously as practicable. In addition, under CAA section 182(b)(2), ozone nonattainment areas classified as moderate or above must implement RACT for all VOC sources covered by a Control Technique Guideline (CTG) document and for all other major sources of VOCs. The SJVUAPCD regulates an ozone nonattainment area that is classified as Extreme under both the one-hour ozone and eight-hour ozone standards (40 CFR 81.305 (2011)) and Rule 4684 applies to major sources, as well as sources covered by a CTG document. Therefore, Rule 4684 must fulfill RACT requirements for VOCs.

Guidance and policy documents that we use to evaluate enforceability and RACT requirements include the following:

1. “Issues Relating to VOC Regulation Cutpoints, Deficiencies, and Deviations,” EPA, May 25, 1988 (the Bluebook).

2. “Guidance Document for Correcting Common VOC & Other Rule Deficiencies,” EPA Region 9, August 21, 2001 (the Little Bluebook).

3. “Control Techniques Guidelines for Fiberglass Boat Manufacturing Materials,” EPA-453/R-08-004, September 2008.

B. Does the rule meet the evaluation criteria?

We believe this rule is consistent with the relevant CAA requirements and guidance regarding enforceability, RACT, and SIP revisions. The TSD has more information on our evaluation.

C. EPA Recommendations to Further Improve the Rule

The TSD describes one additional rule revision that we recommend for the next time the local agency modifies the rule but is not currently the basis for rule disapproval.

D. Proposed Action, Public Comment and Final Action

Because EPA believes the submitted rule fulfills all relevant requirements, we are proposing to fully approve it as described in section 110(k)(3) of the Act once we receive the final adopted version as a revision to the California SIP. If the final version of the rule submitted for SIP approval differs substantially from the version proposed and submitted for “parallel processing,” this will result in the need for additional proposed rulemaking on this rule.

We will accept comments from the public on this proposal for the next 30 days. Unless we receive convincing new information during the comment period, we intend to publish a final approval action that will incorporate this rule into the federally enforceable SIP. Our final action will permanently terminate the sanctions clocks associated with our January 26, 2010 action on the effective date of the final approval.

III. Statutory and Executive Order Reviews

Under the Clean Air Act, the Administrator is required to approve a SIP submission that complies with the provisions of the Act and applicable Federal regulations. 42 U.S.C. 7410(k); 40 CFR 52.02(a). Thus, in reviewing SIP submissions, EPA's role is to approve State choices, provided that they meet the criteria of the Clean Air Act. Accordingly, this proposed action merely proposes to approve State law as meeting Federal requirements and does not impose additional requirements beyond those imposed by State law. For that reason, this proposed action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the Clean Air Act; and

• Does not provide EPA with the discretionary authority to address disproportionate human health or environmental effects with practical, appropriate, and legally permissible methods under Executive Order 12898 (59 FR 7629, February 16, 1994).

In addition, this proposed action does not have Tribal implications as specified by Executive Order 13175 (65 FR 67249, November 9, 2000), because the SIP is not approved to apply in Indian country located in the State, and EPA notes that it will not impose substantial direct costs on Tribal governments or preempt Tribal law.

List of Subjects in 40 CFR Part 52

Environmental protection, Air pollution control, Intergovernmental relations, Ozone, Reporting and recordkeeping requirements, Volatile organic compounds.

Authority: 42 U.S.C. 7401 et seq.

Dated: August 31, 2011.
Jared Blumenfeld,
Regional Administrator, Region IX.

[FR Doc. 2011-23136 Filed 9-9-11; 8:45 am]

BILLING CODE 6560-50-P